DEPARTMENT OF TRANSPORTATION

Federal Railroad Administration

49 CFR Part 232

[FRA Docket No. PB-9; Notice No. 19]

RIN 2130-AB16

Brake System Safety Standards for Freight and Other Non-Passenger Trains and Equipment; End-of-Train Devices

AGENCY: Federal Railroad Administration (FRA), DOT.

ACTION: Final rule; delay of compliance date; conforming amendment.

SUMMARY: On January 17, 2001, FRA published a final rule revising the regulations governing braking systems and equipment used in freight and other non-passenger railroad train operations. In response to the final rule, FRA received a petition for reconsideration from the Association of American Railroads (AAR) seeking reconsideration of, among other things, a requirement that, if the person conducting the test of the two-way end-of-train device on a train is someone other than a train crew member, the locomotive engineer of the train must be notified of the name of the person conducting the test and a record must be maintained, in the cab of the controlling locomotive, containing the name of the person conducting the test. In order to allow FRA an opportunity to respond to this petition prior to the compliance date of the provision in question, this document delays the compliance date for this specific requirement from May 31, 2001, to a future date to be specified in FRA's response to the petition for reconsideration if the petition is not granted. This action also makes a conforming amendment to the rule text to reflect this change.

DATES: The effective date of this conforming amendment is May 31, 2001.

FOR FURTHER INFORMATION, CONTACT: Thomas Herrmann, Trial Attorney, Office of the Chief Counsel, RCC-10, 1120 Vermont Avenue, NW., Stop 10, Washington, DC 20590 (telephone 202-493-6053).

SUPPLEMENTARY INFORMATION: On January 17, 2001, FRA published a final rule revising the Federal safety standards governing braking systems and equipment used in freight and other non-passenger railroad train operations. See 66 FR 4104. The effective date of the rule is May 31, 2001. See 66 FR 9906 (February 12, 2001). In response to the final rule, FRA received several petitions for reconsideration requesting that FRA either amend or clarify the final rule in various ways. Organizations filing petitions included the Association of American Railroads (AAR) (this petition was filed jointly with the American Short Line and Regional Railroad Association), the Brotherhood of Locomotive Engineers, the American Public Transportation Association, and the Rail Passenger Car Alliance. Unfortunately, these petitions are not available on line at the Department of Transportation's centralized Docket Management System Web site because this proceeding originated well before that system was created. They are available, of course, at FRA's docket office or by contacting the contact person shown above. (FRA's docket office is located at 1120 Vermont Avenue, NW., Room 7051, Washington, DC FRA's Docket Clerk, Ms. Ivornette Nelson, may be reached by telephone at (202) 493-6030 or by facsimile at (202) 493-6068.)

Collectively, the petitions raise approximately 25 issues, although some of the more important issues have subsidiary questions. The issues cover a wide gamut, including the requirement to equip locomotives with dynamic brake indicators, documentation and timing of training, the maximum distance that extended-haul trains may travel between inspections, and the meaning of certain language in the final rule. The fact that there are many issues that various organizations desire FRA to reconsider is not surprising, given the complexity of the final rule and the large number of issues it addresses. FRA will give each of these issues full consideration and issue a subsequent document explaining how it has addressed each issue and making any necessary amendments to the final rule. FRA hopes to issue such a comprehensive document concerning all issues raised in the petitions during the summer of 2001, but to the extent any particular issues require more time to resolve, the agency may address those separately at a later date.

Of the many issues raised in the petitions, only one issue concerns a provision for which the compliance date is scheduled to be May 31, 2001. This document concerns that issue. AAR's petition sought reconsideration of a provision requiring certain information about the testing of a two-way end-of-train (EOT) device to be provided to a locomotive engineer. The final rule requires that, if the person conducting the test of the two-way EOT is someone other than a member of the train crew, the locomotive engineer must be notified of the name of the person conducting the test and a record must be maintained, in the cab of the controlling locomotive, containing the name of that individual See 66 FR 4210, § 232.409(c). Under the provisions of the final rule, the compliance date for this and other requirements of Subpart E is May 31, 2001. See 66 FR 4193, § 232.1(b), and document on delay of effective date, 66 FR 9906 (February 12, 2001). To allow FRA an opportunity to respond to this issue without imposing a burden on the industry that might soon be withdrawn if the petition is granted, this document delays the compliance date of this specific requirement, from May 31, 2001, until further notice. If the petition is not granted with respect to that issue, the document explaining that decision will set a new compliance date for that provision. If the petition is granted, of course, there will be no need for any compliance date.

FRA emphasizes that this delay of compliance date applies only to the requirement to provide and retain the name of the person conducting the inspection of a two-way EOT device. The delay does not apply to the provisions for notification and retention of the other information regarding the inspection of a two-way EOT device required by the final rule. See 66 FR 4210, § 232.409(c). Nor does the delay apply to any other provision of the final rule, including other provisions addressed in AAR's petition and the petitions filed by other organizations. None of those other issues on which reconsideration is sought involves provisions having a compliance date in the near future. FRA anticipates resolving those petitions long before the compliance dates set forth in the final rule, which for most provisions is April 1, 2004.

List of Subjects in 49 CFR Part 232

Penalties, Railroad power brakes, Railroad safety, Two-way end-of-train devices.

The Rule

In consideration of the foregoing, 49 CFR part 232, as revised at 66 FR 4210 and delayed at 66 FR 9906, effective May 31, 2001, is amended as follows:

PART 232—[AMENDED]

1. The authority citation for part 232 continues to read as follows:

Authority: 49 U.S.C. 20102-20103, 20107, 20133, 20141, 20301-20303, 20306, 21301-21302, 21304; 49 CFR 1.49(c), (m).

2. In § 232.409(c), add before the period at the end of the last sentence the following: “, except that compliance with the following provision of this paragraph will not be required until further notice published in the Federal Register: the provision that the locomotive engineer shall be provided with the name of the person conducting the test and that a written or electronic record of the notification of the name of the person conducting the test shall be maintained in the cab of the controlling locomotive”.

Issued in Washington, D.C., on May 25, 2001.
George A. Gavalla,
Acting Deputy Administrator, Federal Railroad Administration.

[FR Doc. 01-13658 Filed 5-30-01; 8:45 am]

BILLING CODE 4910-06-P